DEPARTMENT OF ENERGY

Federal Energy Regulatory Commission

18 CFR Part 35

[Docket No. RM14-11-000]

Open Access and Priority Rights on Interconnection Customer's Interconnection Facilities

AGENCY: Federal Energy Regulatory Commission, Energy.

ACTION: Notice of proposed rulemaking; correction.

SUMMARY: This document contains corrections to the proposed rule (RM14-11-000) which published in the Federal Register of Friday, May 30, 2014 (79 FR 31061). The regulation proposed to amend regulations to waive the Open Access Transmission Tariff requirements, the Open Access Same-Time Information System requirements of its regulations, and the Standards of Conduct requirements of its regulations, for any public utility that is subject to such requirements solely because it owns, controls, or operates Interconnection Customer's Interconnection Facilities, in whole or in part, and sells electric energy from its Generating Facility, as those terms are defined in the pro forma Large Generator Interconnection Procedures and the pro forma Large Generator Interconnection Agreement and adopted in Order No. 2003. The Commission proposed to find that requiring the filing of an Open Access Transmission Tariff is not necessary to prevent unjust or unreasonable rates or unduly discriminatory behavior with respect to Interconnection Customer's Interconnection Facilities over which interconnection and transmission services can be ordered pursuant to sections 210, 211, and 212 of the Federal Power Act.

DATES: Comments are due July 29, 2014.

FOR FURTHER INFORMATION CONTACT:

Becky Robinson (Technical Information), Office of Energy Policy and Innovation, Federal Energy Regulatory Commission, 888 First Street NE., Washington, DC 20426, (202) 502-8868, Becky.Robinson@ferc.gov.

Brian Gish (Legal Information), Office of the General Counsel—Energy Markets, Federal Energy Regulatory Commission, 888 First Street NE., Washington, DC 20426, (202) 502-8998, Brian.Gish@ferc.gov.

SUPPLEMENTARY INFORMATION: On May 15, 2014, the Commission issued a Notice of Proposed Rulemaking (NOPR) in the above-captioned proceeding. Open Access and Priority Rights on Interconnection Customer's Interconnection Facilities, 147 FERC ¶ 61,123 (2014). This errata notice makes several corrections to the NOPR as issued.

In FR Doc. 2014-11946 appearing on page 31061 in the Federal Register of Friday, May 30, 2014, the following corrections are made:

1. On page 31072, second column, first paragraph, the first sentence of section 35.28(d)(1) of the proposed regulatory text is revised to read as follows:

“A public utility subject to the requirements of this section and 18 CFR parts 37 (Open Access Same-Time Information System) and 358 (Standards of Conduct for Transmission Providers) may file a request for waiver of all or part of such requirements for good cause shown.”

2. On page 31072, second column, fourth paragraph, the first sentence of section 35.28(d)(2)(ii) of the proposed regulatory text is revised to read as follows:

“Any eligible entity that seeks interconnection or transmission services with respect to Interconnection Customer's Interconnection Facilities for which a waiver is in effect pursuant to this paragraph (d)(2) shall follow the procedures in sections 210, 211, and 212 of the Federal Power Act, 18 CFR § 2.20, and 18 CFR part 36.”

3. On page 31070, third column, in Paragraph 62, the following topics are revised to read as follows:

“Title: FERC-917, Non-Discriminatory Open Access Transmission Tariff; FERC-582, Electric Fees and Annual Charges”

“OMB Control No. 1902-0233; 1902-0132”

4. On page 31071, first column, the last sentence of Paragraph 64 is revised to read as follows:

“Please reference OMB Control No. 1902-0233, 1902-0132, and the docket number (RM14-11-000) of this proposed rulemaking in your submission.”

Issued: June 16, 2014.
Kimberly D. Bose,
Secretary.

[FR Doc. 2014-14425 Filed 6-20-14; 8:45 am]

BILLING CODE 6717-01-P